OFFICE OF PERSONNEL MANAGEMENT

[OMB Control No. 3206-0206; Form RI 25-37]

Submission for OMB Review; Request for Comments on a Revised Information Collection

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for review of a revised information collection. This information collection, “Evidence to Prove Dependency of a Child” (OMB Control No. 3206-0206; form RI 25-37), is designed to collect sufficient information for OPM to determine whether the surviving child of a deceased federal employee is eligible to receive benefits as a dependent child.

Approximately 250 forms are completed annually. We estimate it takes approximately 60 minutes to assemble the needed documentation. The annual estimated burden is 250 hours.

For copies of this proposal, contact Margaret A. Miller by telephone at (202) 606-2699, by FAX at (202) 418-3251, or by e-mail at Margaret.Miller@opm.gov. Please include your mailing address with your request.

DATES: Comments on this proposal should be received within 30 calendar days of the date of this publication.

ADDRESSES: Send or deliver comments to: Ronald W. Melton, Deputy Assistant Director, Retirement Services Program, Center for Retirement and Insurance Services, U.S. Office of Personnel Management, 1900 E Street, NW., Room 3305, Washington, DC 20415-3500, and John W. Barkhamer, OPM Desk Officer, Office of Information and Regulatory Affairs, Office of Management and Budget, New Executive Office Building, 725 17th Street, NW., Room 10235, Washington, DC 20503.

FOR FURTHER INFORMATION CONTACT: Cyrus S. Benson, Team Leader, Publications Team, RIS Support Services/Support Group, U.S. Office of Personnel Management, 1900 E Street, NW.,—Room 4H28, Washington, DC 20415, (202) 606-0623.

U.S. Office of Personnel Management.
Howard Weizmann,
Deputy Director.

[FR Doc. E8-23607 Filed 10-6-08; 8:45 am]

BILLING CODE 6325-38-P